DEPARTMENT OF ENERGY

Federal Energy Regulatory Commission

[Docket No. ER99-1432-001, et al.]

Kincaid Generation L.L.C., et al. Electric Rate and Corporate Regulation Filings

February 7, 2000.

Take notice that the following filings have been made with the Commission:

1. Kincaid Generation L.L.C, Elwood Energy LLC and Elwood Marketing, LLC

[Docket Nos. ER99-1432-001, ER99-1695-001 and ER99-1465-005]

Take notice that on January 31, 2000, Kincaid Generation, L.L.C., Elwood Energy LLC and Elwood Marketing, LLC, tendered for filing an updated market power analysis. The updated market analysis is required to be filed for Kincaid Generation, L.L.C. at the time in compliance with the Commission's order in Kincaid Generation, L.L.C., 78 FERC ¶ 61,082 (1997). The companies seek leave, however, to file to the updated market analysis on behalf of all three entities in order to coordinate the filing of future market updates.

Comment date: February 22, 2000, in accordance with Standard Paragraph E at the end of this notice.

2. Southwest Power Pool

[Docket No. ER99-4392-000]

Take notice that on January 31, 2000 Southwest Power Pool, Inc. (SPP), tendered for filing its compliance filing in response to the Commission's December 17, 1999 order. SPP seeks an effective date of February 1, 2000, for the changes contained therein.

Copies of this filing were served on all affected state commissions, all SPP customers, and all parties included on the official service list established in this proceeding.

Comment date: February 22, 2000, in accordance with Standard Paragraph E at the end of this notice.

3. Louisville Gas and Electric Company and Kentucky Utilities Company

[Docket No. ER00-1383-000]

Take notice that on January 31, 2000 Louisville Gas and Electric Company (LG&E) and Kentucky Utilities (KU) (hereinafter Companies), tendered for filing an unexecuted unilateral Service Agreement between the Companies and Duke Power under the Companies Rate Schedule MBSS.

Comment date: February 22, 2000, in accordance with Standard Paragraph E at the end of this notice.

4. Allegheny Energy Service Corporation, on behalf of Monongahela Power Company The Potomac Edison Company, and West Penn Power Company (Allegheny Power)

[Docket No. ER00-1384-000]

Take notice that on January 31, 2000, Allegheny Energy Service Corporation on behalf of Monongahela Power Company, The Potomac Edison Company and West Penn Power Company (Allegheny Power), submitted a Notice of Cancellation for EnerZ Corporation, a customer under Allegheny Power's Open Access Transmission Service Tariff.

Copies of the filing have been provided to the Public Utilities Commission of Ohio, the Pennsylvania Public Utility Commission, the Maryland Public Service Commission, the Virginia State Corporation Commission, and the West Virginia Public Service Commission.

Comment date: February 22, 2000, in accordance with Standard Paragraph E at the end of this notice.

5. American Electric Power Service Corporation

[Docket No. ER00-1385-000]

Take notice that on January 31, 2000, the American Electric Power Service Corporation (AEPSC), tendered for filing blanket service agreements by the AEP Companies under the Wholesale Market Tariff of the AEP Operating Companies (Power Sales Tariff) and letters of assignment under the Power Sales Tariff. The Power Sales Tariff was accepted for filing effective October 10, 1997 and has been designated AEP Operating Companies' FERC Electric Tariff Original Volume No. 5. AEPSC respectfully requests waiver of notice to permit the service agreements and assignments to be made effective as specified in the submittal letter to the Commission with this filing.

Comment date: February 22, 2000, in accordance with Standard Paragraph E at the end of this notice.

6. Ameren Services Company

[Docket No. ER00-1386-000]

Take notice that on January 31, 2000, Ameren Services Company (ASC), tendered for filing an unexecuted Point-to-Point Service Agreement and associated Operating Agreement, between ASC and Wayne-White Counties Electric Cooperative, Inc. ASC asserts that the purpose of the agreements are to permit ASC to provide service over its transmission and distribution facilities to Wayne-White Counties Electric Cooperative, Inc. pursuant to the Ameren Open Access Tariff.

Comment date: February 22, 2000, in accordance with Standard Paragraph E at the end of this notice.

7. Ameren Services Company

[Docket No. ER00-1387-000]

Take notice that on January 31, 2000, Ameren Services Company (ASC), tendered for filing an unexecuted Network Integration Transmission Service Agreement and associated Network Operating Agreement, between ASC and Soyland Power Cooperative, Inc. ASC asserts that the purpose of the agreements are to permit ASC to provide service over its transmission and distribution facilities to Soyland Power Cooperative, Inc. pursuant to the Ameren Open Access Tariff.

Comment date: February 22, 2000, in accordance with Standard Paragraph E at the end of this notice.

8. New England Power Pool

[Docket No. ER00-1389-000]

Take notice that on January 31, 2000, the New England Power Pool Participants Committee submitted changes to Market Rules and Procedures 11 and 20.

The NEPOOL Participants Committee states that copies of these materials were sent to the New England state governors and regulatory commissions and the Participants in the New England Power Pool.

Comment date: February 22, 2000, in accordance with Standard Paragraph E at the end of this notice.

9. Entergy Services, Inc.

[Docket No. ER00-1401-000]

Take notice that on January 31, 2000, Entergy Services, Inc., on behalf of Entergy Arkansas, Inc., Entergy Gulf States, Inc., Entergy Louisiana, Inc., Entergy Mississippi, Inc., and Entergy New Orleans, Inc., (collectively, the Entergy Operating Companies), tendered for filing a Short-Term Firm Point-to-Point Transmission Service Agreement between Entergy Services, Inc., as agent for the Entergy Operating Companies, and PECO Energy Company—Power Team.

Comment date: February 22, 2000, in accordance with Standard Paragraph E at the end of this notice.

10. New York State Electric & Gas Corporation

[Docket No. ER00-1402-000]

Take notice that on January 31, 2000, New York State Electric & Gas Corporation (NYSEG), tendered for filing pursuant to Section 35 of the Federal Energy Regulatory Commission's Rules of Practice and Procedure, 18 C.F.R 35 (1998), a service agreement (the Service Agreement), under which NYSEG may provide capacity and/or energy to Allegheny Energy Supply Company, LLC in accordance with NYSEG's FERC Electric Tariff, Original Volume No. 3.

NYSEG has requested waiver of the notice requirements so that the Service Agreement becomes effective as of February 1, 2000.

NYSEG has served copies of the filing upon the New York State Public Service Commission and Allegheny Energy Supply Company, LLC.

Comment date: February 22, 2000, in accordance with Standard Paragraph E at the end of this notice.

11. West Texas Utilities Company and Central and South West Services, Inc.

Docket No. [ER00-1404-000]

Take notice that on January 31, 2000, West Texas Utilities Company (WTU) and Central and South West Services, Inc. (CSWS), as designated agent for Central Power and Light Company, Public Service Company of Oklahoma, Southwestern Electric Power Company and WTU, tendered for filing (1) Interconnection Agreements with Big Country Electric Cooperative, Inc., Coleman County Electric Cooperative, Inc., Concho Valley Electric Cooperative, Inc., Golden Spread Electric Cooperative, Inc., Kimble Electric Cooperative, Inc., Lighthouse Electric Cooperative, Inc. (Lighthouse), Rio Grande Cooperative, Inc., Southwest Texas Electric Power Cooperative, Inc. and Taylor Electric Cooperative, Inc. (collectively, the Mid-Tex Cooperatives); (2) Service Agreements for ERCOT Ancillary Services under the Open Access Transmission Service Tariff of the CSW Operating Companies (CSW OATT) for each of the customers, except Golden Spread; (3) Service Agreements for ERCOT Regional Transmission Service under the CSW OATT for each of the customers except Golden Spread; (4) Network Integration Transmission Service Agreements with Golden Spread and Lighthouse; (5) Network Operating Agreements with Golden Spread and Lighthouse; and a revised schedule of rates for service under WTU's Wholesale Power Choice Tariff.

WTU seeks an effective date of January 1, 2000 and, accordingly, seeks waiver of the Commission's notice requirements.

Copies of the filing have been served on all of the Mid-Tex Cooperatives and on the Public Utility Commission of Texas.

Comment date: February 22, 2000, in accordance with Standard Paragraph E at the end of this notice.

12. Reliant Energy HL&P

Docket No. [ER00-1413-000]

Take notice that on January 31, 2000, Reliant Energy HL&P (Reliant HL&P), tendered for filing an unexecuted transmission service agreement (TSA) with Tex-La Electric Cooperative of Texas, Inc. for Long-Term Firm Transmission Service under Reliant HL&P's FERC Electric Tariff, Third Revised Volume No. 1, for Transmission Service To, From and Over Certain HVDC Interconnections.

HL&P has requested an effective date for the TSA of January 1, 2000.

Copies of the filing were served on Tex-La and the Public Utility Commission of Texas.

Comment date: February 22, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-3308 Filed 2-11-00; 8:45 am]

BILLING CODE 6717-01-P